DEPARTMENT OF TRANSPORTATION

Federal Aviation Administration

[FAA-2024-1385]

Agency Information Collection Activities: Requests for Comments; Clearance of a Renewed Approval of Information Collection: General Aviation and Part 135 Activity Survey

AGENCY: Federal Aviation Administration (FAA), Department of Transportation.

ACTION: Notice and request for comments.

SUMMARY: In accordance with the Paperwork Reduction Act of 1995, FAA invites public comments about our intention to request the Office of Management and Budget (OMB) approval to renew information collection. The collection enables the FAA to monitor the general aviation fleet to anticipate and meet demand for National Airspace System (NAS) facilities and services, assess the impact of regulatory changes on the fleet, and implement measures to assure the safe operation of all aircraft in the NAS. The data are also used by other government agencies, the general aviation industry, trade associations, and private businesses to identify safety problems and to form the basis for research and analysis of general aviation issues.

DATES: Written comments should be submitted by December 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Robert DeWolf by email at: Robert.D.DeWolf@faa.gov; phone: 202-267-3715.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0060.

Title: General Aviation and Part 135 Activity Survey.

Form Numbers: 1800-54.

Type of Review: Renewal of an information collection.

Background: The Federal Register Notice with a 60-day comment period soliciting comments on the following collection of information was published on June 24th, 2024 (89 FR 52533). The General Aviation and Part 135 Activity Survey (GA Survey) provides the Federal Aviation Administration (FAA) information on general aviation and on-demand Part 135 aircraft activity. Title 49, United States Code, empowers the Secretary of Transportation to collect and disseminate information relative to civil aeronautics, to study the possibilities for development of air commerce and the aeronautical industries, and to make long-range plans for, and formulate policy with respect to the orderly development and use of the navigable airspace, radar installations and all other aids for air navigation.

The annual GA Survey questionnaire requests the aircraft owner or operator to provide information on flight activity, flight conditions, where the aircraft was flown, and aircraft characteristics. Survey samples are based on statistically selected aircraft registered with the FAA and located in the U.S. or U.S. territories. The sample is stratified by aircraft type, FAA region in which the aircraft is registered, whether the aircraft operates under a Part 135 certificate, and whether the aircraft was manufactured in the past five years. Select aircraft types and/or sub-populations are sampled at 100%.

Responses are collected from owners and operators of the sampled aircraft through two modes: web-form and mailings of the questionnaire. As a result, aggregated statistical activity estimates are published and provided for analytical use in a myriad of applications and/or industries relating to the flight activity and aviation safety.

Respondents: 39,000 aircraft owners.

Frequency: Annually.

Estimated Average Burden per Response: 20 minutes.

Estimated Total Annual Burden: 13,000 Hours.

Issued in Washington, DC, on November 13th, 2024.
Robert DeWolf,
Program Manager, Federal Aviation Administration, Office of Accident Investigation & Prevention, Program Management Branch (AVP-220).

[FR Doc. 2024-26879 Filed 11-18-24; 8:45 am]

BILLING CODE 4910-13-P